NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 23, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Defense Threat Reduction Agency. (N1-374-09-5, 1 item, 1 temporary item). Master files of an electronic information system used for budget planning, financial forecasting, and related functions.

2. Department of Defense, Defense Threat Reduction Agency. (N1-374-09-6, 1 item, 1 temporary item). Master files of an electronic information system used for accounting, budgeting, and related functions.

3. Department of Justice, Antitrust Division (N1-60-09-54, 4 items, 4 temporary items). Content and management records for the division's internal staff Web site.

4. Department of Justice, Criminal Division (DAA-0060-2012-0008, 1 item, 1 temporary item). Master files of an electronic information system used to track record maintenance, location, and disposition.

5. Department of Justice, Criminal Division (DAA-0060-2011-0017, 8 items, 8 temporary items). Web content, web management, and technical records for an internal component Web site that contains no unique content.

6. Department of Justice, Criminal Division (DAA-0060-2012-0010, 1 item, 1 temporary item). Master files of an electronic information system used to track case assignment and workflow.

7. Department of Justice, Justice Management Division (DAA-0060-2012-0012, 1 item, 1 temporary item). Personnel rosters recording the onboard status of federal employees assigned to the offices of the Attorney General.

8. Department of Justice, Office of Community Oriented Policing Services (N1-60-09-70, 2 items, 2 temporary items). Content and management records for the office's internal staff Web site.

9. Department of Justice, Office of the Inspector General (DAA-0060-2012-0014, 1 item, 1 temporary item). Master files of an electronic information system used to track review action assignments and customer satisfaction survey data for reports on investigations.

10. Department of Labor, Office of Administrative Law Judges (N1-174-09-2, 6 items, 5 temporary items). Web site content and design records, and master files of electronic information systems used to maintain case file information. Proposed for permanent retention is an electronic library containing final decisions and orders.

11. Department of the Navy. United States Marine Corps. (N1-127-09-3, 3 items, 2 temporary items). Reference copies of officer and enlisted service records. Proposed for permanent retention are electronic officer and enlisted service records.

12. Department of State, Bureau of International Information Programs (N1-59-09-21, 5 items, 4 temporary items). Records of the Office of Information Resources, including electronic resources used to support program functions and provide information concerning public diplomacy. Proposed for permanent retention are policy and program records.

13. Department of the Treasury, Internal Revenue Service (N1-58-11-17, 2 items, 2 temporary items). Master files and system documentation of an electronic information system used to track cases of underreporting and correspondence.

14. Department of the Treasury, Internal Revenue Service (N1-58-11-20, 2 items, 2 temporary items). Master files and system documentation of an electronic information system used to assist staff in resolving errors on certain tax returns.

15. Department of Treasury, Internal Revenue Service (N1-58-12-5, 2 items, 2 temporary items). Master files and documentation of an electronic information system used to manage case information and reports responding to information requests.

16. Federal Reserve System, Board of Governors of the Federal Reserve System (N1-82-12-1, 3 items, 3 temporary items). Records of the Law Enforcement Unit Training Bureau, including documentation of internal unit member training, participation in off-site training, and equipment inventory and maintenance.

17. Federal Retirement Thrift Investment Board, Office of Investments (N1-474-12-1, 1 item, 1 temporary item). Statistical reports used to monitor investment performance.

18. Federal Retirement Thrift Investment Board, Office of Investments (N1-474-12-4, 1 item, 1 temporary item). Regular investment performance reports.

19. Federal Retirement Thrift Investment Board, Office of Investments (N1-474-12-5, 1 item, 1 temporary item). Subject files relating to thrift investments.

20. Federal Retirement Thrift Investment Board, Office of Investments (N1-474-12-6, 2 items, 2 temporary items). Records of investment policy and procedures.

21. Federal Trade Commission, Agency-wide (N1-122-09-1, 23 items, 16 temporary items). Comprehensive schedule covering all aspects of agency work. Records relating to administrative and mission support functions; budget and financial administration; routine health, safety, and security; background records of inspector general investigative files; and project and investigative files. Proposed for permanent retention are significant project files; documentation of the Commission's establishment, regulations, policy and organization including related deliberations and findings; final issuances; and inspector general files including final reports and case files.

22. National Credit Union Administration, Agency-wide (N1-413-09-2, 23 items, 15 temporary items). Administrative records including routine reports and working files. Proposed for permanent retention are significant reports, manuals, and meeting records.

23. Nuclear Regulatory Commission, Office of Nuclear Reactor Regulation (N1-431-08-19, 2 items, 2 temporary items). Master files and outputs of an electronic information system containing information on requests from nuclear power plants for variations in required testing and inspection procedures for plant components.

24. Social Security Administration, Deputy Commissioner for Systems (DAA-0047-2012-0004, 4 items, 4 temporary items). Master files of an electronic information system used for internal workload tracking and resource allocation.

Dated: June 11, 2012.
Paul M. Wester, Jr.,
Chief Records Officer for the U.S. Government.

[FR Doc. 2012-15198 Filed 6-20-12; 8:45 am]

BILLING CODE 7515-01-P